DEPARTMENT OF HEALTH AND HUMAN SERVICES

National Institutes of Health

National Institute of Mental Health; Amended Notice of Meeting

Notice is hereby given of a change in the meeting of the National Institute of Mental Health Special Emphasis Panel, January 24, 2023, 12:00 p.m. to January 24, 2023, 4:00 p.m., National Institutes of Health, Neuroscience Center, 6001 Executive Boulevard, Rockville, MD, 20852, which was published in the Federal Register on December 30, 2022, FR Doc 2022-28446, 87 FR 80554.

This notice is being amended to change the meeting date from January 24, 2023, to February 2, 2023. Meeting location and time remain the same. The meeting is closed to the public.

Dated: January 13, 2023.
Melanie J. Pantoja,
Program Analyst, Office of Federal Advisory Committee Policy.

[FR Doc. 2023-01018 Filed 1-19-23; 8:45 am]

BILLING CODE 4140-01-P